DEPARTMENT OF AGRICULTURE

Forest Service

Renewal of Special-Use Permits for Recreational Residences on the Safford Ranger District, Coronado National Forest, Graham County, AZ

AGENCY: Forest Service, USDA.

ACTION: Notice of intent to prepare an environmental impact statement.

SUMMARY: In accordance with the President's Council on Environmental Quality (CEQ) Regulations Implementing the Procedural Provisions of the National Environmental Policy Act (NEPA) of 1969, the U.S. Department of Agriculture, Forest Service, Coronado National Forest, announces its intent to prepare an Environmental Impact Statement (EIS) to evaluate a proposed action to renew individual special-use permits (SUPs) for occupancy and use of 88 existing recreational residences on the Safford Ranger District. If a decision is made to renew, term permits would be issued for a 20-year period beginning on January 1, 2009. No change in the use of the residences would occur upon issuance of a new permit.

DATES: Comments concerning the scope of the analysis must be received by April 10, 2006. Written and oral scoping comments will also be received at open-house public meetings scheduled to be held in Tucson, Arizona, on March 27, 2006, and Safford, Arizona, on March 28, 2006.

The Draft EIS is expected to be filed with the Environmental Protection Agency (EPA) in the fall of 2006. At that time, EPA will publish a Notice of Availability (NOA) of the Draft EIS in the Federal Register, which will begin a period of public review of the Draft EIS. The review period will comprise 45 days from the date of publication of the NOA in the Federal Register. The Final EIS is scheduled to be completed in the winter of 2006/2007.

ADDRESSES: Written comments on this notice may be mailed to the Bill Lewis, Recreation and Special-Uses Program Manager, Coronado National Forest, 300 West Congress Street, Tucson, Arizona 85701. You may also submit written comments by facsimile to Mr. Lewis at (520) 388-8305. Comments may be submitted by electronic mail to comments-southwestern-coronado@fs.fed.us. Envelopes and the subject line of electronic mail messages or faxes should be labeled “Safford Recreational Residence EIS.”

Public meetings will be held during the scoping period at the following locations, dates, and times: Tucson-Pima County Main Library, Basement Meeting Room, 101 North Stone Avenue, Tucson, Arizona, March 27, 2006 (6 p.m. to 8 p.m.), The Manor House, Arizona Room, 415 East U.S. Highway 70, Safford, Arizona, March 28, 2006 (4 p.m. to 7 p.m.).

FOR FURTHER INFORMATION CONTACT: For information on the Special-Uses Program, please contact Mr. Bill Lewis, Recreation and Special-Uses Program Manager, Coronado National Forest, at the above address, and telephone (520) 388-8422. Questions on the Forest Service NEPA process or FOIA requirements may be directed to Ms. Andrea Wargo Campbell, Forest NEPA Coordinator, at the same address, and telephone (520) 388-8352.

SUPPLEMENTARY INFORMATION:

Background

The U.S. Forest Service has offered a recreational residence program on National Forest System lands since the 1920's. The program was initiated with the objective of encouraging city-dwellers to enjoy the recently established national forests by permitting them to construct vacation homes on specified plots. It expanded through the 1960's to encompass a total of 19,000 cabins nationwide before the program was discontinued.

There are now about 15,000 Forest Service cabins nationwide, each of which is maintained under the terms and conditions of SUPs issued by the managing Forest. Though some cabins have been traded on the open market, many are still owned by the descendants of the individuals who built them.

Eighty-eight (88) recreational residences are located on the Safford Ranger District of the Coronado National Forest near Safford, Arizona: 14 at an area known as Columbine and 74 at Turkey Flat. The owners of these recreational residences hold Forest Service SUPs that allow each unit to be occupied under specific terms and conditions. Restrictions imposed on the use of recreational residences on National Forest System lands include, among other conditions, a prohibition on year-round residency and vacation rental, and constraints on proposed remodeling that would change the footprint or character of a residence.

Special-use permits issued for recreational residences on the Safford Ranger District are scheduled to expire on December 31, 2008. Forest Service Handbook (FSH) 2709.11, Chapter 41.23a(2), requires that special-uses program staff “initiate the analysis and action to issue a new permit 2 years prior to expiration of the current term permit”. The Handbook further states that, because “recreation residences have been in place for many years, and experience in administering this use has shown that continuing the use does not cause significant environmental impacts, issuance of a new permit can be made without further environmental documentation” [2709.11, Chapter 41.23a(1)]. However, “if the use has not been analyzed sufficiently as part of an EA or EIS completed within 5 years of permit expiration, (the program must) complete the appropriate environmental analysis and documentation” [2709.11, Chapter 41.23a(1)(b)]. Because NEPA documentation for the SUPs issued for recreational residences on the Safford District was completed more than five years prior to the upcoming permit expiration, the Forest Service has decided to prepare an EIS for the proposed permit renewal action.

Proposed Action

The Forest Service's proposed action is to renew SUPs issued for recreational residences on the Safford Ranger District upon their expiration on December 31, 2008. The renewal period would extend 20 years, from January 1, 2009, through December 31, 2028. Permit holders would be required to abide by all terms and conditions expressed in their respective SUPs and in accordance with the annual Operation and Maintenance (O&M) Plan conveyed with each SUP. (Examples of an SUP and O&M Plan are available for public review on the Coronado National Forest Web site at “http://www.fs.fed.us/r3/coronado”.) Prior to the renewal of an SUP, each recreational residence will be subject to inspection by Forest Service personnel to confirm that the permit holder is in compliance with the terms and conditions of his/her current permit [FSH 2709.11, 41.23a(3)].

Purpose of and Need for Action

The purpose of and need for Forest Service action is based upon the anticipated expiration of the SUPs for recreational residences on the Safford Ranger District. Under the Federal Land Policy and Management Act (FLPMA) of 1976, the Forest Service is directed to consider special uses of National Forest System lands requested by the public, and to permit such uses when (1) they are allowable under the FLMPA and (2) they are implemented in accordance with goals, objectives, standards, and guidelines expressed in a Forest's Land and Resource Management Plan (LRMP). Action is needed at this time because the permits on the Safford Ranger District are scheduled to expire. It is Forest Service policy to continue recreation residence use and to work in partnership with holders of these permits to maximize public recreational benefits [Forest Service Manual (FSM) 2347.1; LRMP, pp. 9, 41 and 59].

Preliminary Identification of Issues

Based on a preliminary assessment of the potential impacts of the proposed action, the following issues were identified:

1. Insect infestation and fire have affected the population and habitat of the Mt. Graham red squirrel in the area of the Columbine recreational residences.

2. When a wildfire occurs, the appropriate response in the area of the recreational residences is suppression, which disrupts the natural fire cycle and the ability of the ecosystem to restore itself to natural historic fire-adapted conditions.

Responsible Official

Mr. William A. Schuckert, Safford District Ranger, Coronado National Forest, will be the Responsible Official for this EIS process. The address for the Safford Ranger District is 711 14th Avenue, Suite D, Safford, Arizona 85546.

Nature of NEPA Decision To Be Made

The Safford District Ranger's decision will recommend implementation of one of the following alternatives: (1) The proposed action to renew the recreational residence SUPs for a 20-year period, (2) an alternative to the proposed action, if any exist, or (3) the no-action alternative. If the Ranger's decision is that no action should be taken, an SUP would be issued to each permit holder for a 10-year period, and during this period, each owner would be required to remove his/her residences from National Forest System lands at his/her expense.

National Forest Management Act Consistency Determination

A decision to issue new recreational residence permits, following expiration of the current permits, requires, in addition to a NEPA review, a determination of the consistency of the renewal action with the governing Land and Resource Management Plan for the Coronado National Forest (1986, as amended). According to policy, when a recreational residence use is consistent with the Land and Resource Management Plan, the use shall continue (FSM 2721.23e), and a new permit shall be issued to the current permit holder [FSM 2721.23e(1)], upon request. Consistency determinations are made by tract, not individual lots; therefore, on the Safford Ranger District, two consistency determinations will be made: one for residences at Columbine, the other for those at Turkey Flat.

Comments Requested

The Forest Service encourages citizens to express issues, concerns, and suggestions they may have about this proposed action. Comments should be directly related to the proposed action to best assist us in our environmental impacts analysis. Although comments are welcome at any time, they will be most useful to us if they are received by April 10, 2006. If you have any questions about this notice or the comment process, please contact Bill Lewis, Recreation and Special-Uses Program Manager, Coronado National Forest, at (520) 388-8422 prior to submitting your comments.

Written comments may be sent by U.S. mail to Bill Lewis (RE: Safford Recreation Residences EIS), Coronado National Forest, 300 West Congress Street, Tucson, Arizona 85701 or by facsimile to Mr. Lewis at (520) 388-8305. Alternatively, comments may be submitted by electronic mail to the following address: “comments-southwestern-coronado@fs.fed.us”. Please include “Safford Recreation Residences EIS” in the subject line of all e-mails.

Comments and personal information associated with them, such as names and addresses, will become part of the administrative project record for this NEPA review. As such, they may be made available to a third-party upon request pursuant to the Freedom of Information Act (FOIA). If you do not wish your personal information to be subject to release under FOIA, you may chose not to include it with your comments. Alternatively you may request an exemption from FOIA with your comment submittal. Should you choose the latter, you will be informed by the Forest Service as to whether or not your request qualifies for an exemption. If it does not, you will be afforded the opportunity to resubmit your comments without personal information or to withhold them.

Early Notice of the Importance of Public Participation in the NEPA Process

Following the 30-day scoping period announced in this notice, the Forest Service will prepare a draft environmental impact statement (DEIS). Upon completion, the DEIS will be made available for a 45-day public review and comment period that will begin on the date that the Environmental Protection Agency publishes a notice of Availability of the DEIS in the Federal Register. The Forest Service believes that, at this early stage, it is important to provide the public with notice about several court rulings related to public participation in the NEPA environmental review process.

First, reviewers of a DEIS must structure their participation in the NEPA review so that it is meaningful and alerts the agency to the reviewer's position and contentions [Vermont Yankee Nuclear Power Corp. v. NRDC, 435 U.S. 519, 553 (1978)]. Also, environmental objections that could be raised at the DEIS stage but are not raised until after completion of the final environmental impact statement (FEIS) may be waived or dismissed by the courts [City of Angoon v. Hodel, 803 F.2d 1016, 1022 (9th Cir. 1986) and Wisconsin Heritages, Inc. v. Harris, 490 F. Supp. 1334, 1338 (E.D. Wisc. 1980)]. Because of these court rulings, it is very important that those parties who are interested in this proposed action participate before the close of a public comment period so that substantive comments and objections are available to the Forest Service in a timely manner that will allow them to be meaningfully considered and subsequently addressed in the FEIS.

To assist the Forest Service in identifying and considering issues and concerns about the proposed action, comments on a DEIS should be as specific as possible. It is also helpful if comments refer to specific line numbers, pages, and/or chapters of the DEIS. Comments may address the adequacy of the DEIS or the merits of the alternatives formulated and discussed in it. For comments of this nature, reviewers may choose to refer to CEQ regulations at 40 CFR 1503.3.

Comments received, including the names and addresses of those who comment, will be considered part of the public record of this NEPA review and will be available or public inspection (Authority: 40 CFR 1501.7 and 1508.22; FSF 1909.15, Section 21).

Authorization: National Environmental Policy Act of 1969 as amended (42 U.S.C. 4321-4346); Council on Environmental Quality Regulations (40 CFR parts 1500-1508); U.S. Department of Agriculture NEPA Policies and Procedures (7 CFR part 1b).

Dated: March 1, 2006.
Jeanine A. Derby,
Forest Supervisor.

[FR Doc. 06-2202 Filed 3-8-06; 8:45 am]

BILLING CODE 3410-11-M